DEPARTMENT OF TRANSPORTATION

Federal Aviation Administration

RTCA Special Committee 159: Minimum Operational Performance Standards for Airborne Navigation Equipment Using Global Positioning System (GPS)

AGENCY: Federal Aviation Administration (FAA), DOT.

ACTION: Notice of RTCA special committee 159 meeting.

SUMMARY: The FAA is issuing this notice to advise the public of a meeting of RTCA Special Committee 159: Minimum Operational Performance Standards for Airborne Navigation Equipment Using Global Positioning System (GPS).

DATES: The meeting will be held August 27-30, 2001, from 9 am to 4:30 pm (unless stated otherwise).

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; web site http://www.rtca.org.

SUPPLEMENTARY INFORMATION: Pursuant to section 10(a)(2) of the Federal Advisory Committee Act (Pub. L. 92-463, 5 U.S.C., Appendix 2), notice is hereby given for a Special Committee 159 meeting. The agenda will include:

• August 27 (1-4:30pm):

• Working Group 1 (3rd Civil Frequency); Ad Hoc Working Group (JHU/APL Report Response); Working Group 4 (Editors).

• August 28:

• Working Group 2 (GPS/WAAS); Working Group 4 (Precision Landing Guidance [GPS/LAAS]); Working Group 6 (GPS/Interference).

• August 29:

• Working Group 2 (GPS/WAAS); Working Group 4 (Precision Landing Guidance [GPS/LAAS]); Working Group 5 (Surface Surveillance).

• August 30:

• Opening Plenary Session (Welcome and Introductory Remarks, Approve Minutes of Previous Meeting).

• Review Working Group Progress and Identify Issues for Resolution.

• Review of EUROCAE activities.

• Final Review/Approval of: Revised RTCA DO-229B, WAAS MOPS, RTCA Paper No. 193-01/SC159-876; Revised RTCA DO-253, LAAS MOPS, RTCA Paper No. 182-01/SC159-875; Revised RTCA DO-246A, LAAS ICD, RTCA Paper No. 181-01/SC159-874.

• Closing Plenary Session (Assignment/Review of Future Work, Other Business, Date and Place of Next Meeting).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on July 25, 2001.
Janice L. Peters,
FAA Special Assistant, RTCA Advisory Committee.

[FR Doc. 01-19158 Filed 7-31-01; 8:45 am]

BILLING CODE 4910-13-M